INTERNATIONAL TRADE COMMISSION

[Investigation No. 731-TA-1424 (Final)]

Mattresses From China; Revised Schedule for the Subject Investigation

AGENCY: United States International Trade Commission.

ACTION: Notice.

DATES: July 8, 2019.

FOR FURTHER INFORMATION CONTACT: Calvin Chang (202-205-3062), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: On May 28, 2019, the Commission established a schedule for the conduct of the final phase of the subject investigation (84 FR 27657, June 13, 2019). On July 8, 2019, the Commission revised its schedule of the final phase of the subject investigation (84 FR 34408, July 18, 2019). The Commission is revising its schedule by changing the hearing date.

The Commission's revised schedule is as follows: Requests to appear at the hearing must be filed with the Secretary to the Commission not later than October 8, 2019; the prehearing conference will be held at the U.S. International Trade Commission Building on October 10, 2019, if deemed necessary; the prehearing staff report will be placed in the nonpublic record on September 19, 2019; the deadline for filing prehearing briefs is September 26, 2019; the hearing will be held at the U.S. International Trade Commission Building at 9:30 a.m. on October 11, 2019; the deadline for filing posthearing briefs is October 18, 2019; the Commission will make its final release of information on November 12, 2019; and final party comments are due on November 14, 2019.

For further information concerning this proceeding, see the Commission's May 28, 2019 notice cited above and the Commission's Rules of Practice and Procedure, part 201, subparts A through E (19 CFR part 201), and part 207, subparts A and C (19 CFR part 207).

Authority: This investigation is being conducted under authority of title VII of the Tariff Act of 1930; this notice is published pursuant to section 207.21 of the Commission's rules.

By order of the Commission.
Issued: August 30, 2019.
Lisa Barton,
Secretary to the Commission.

[FR Doc. 2019-19152 Filed 9-4-19; 8:45 am]

BILLING CODE 7020-02-P